DEPARTMENT OF THE INTERIOR

National Park Service

[NPS-WASO-NAGPRA-23389; PPWOCRADN0-PCU00RP14.R50000]

Notice of Inventory Completion: Oberlin College, Oberlin, OH

AGENCY: National Park Service, Interior.

ACTION: Notice.

SUMMARY: Oberlin College has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to Oberlin College. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to Oberlin College at the address in this notice by July 31, 2017.

ADDRESSES: Dr. Amy V. Margaris, Oberlin College NAGPRA Compliance Officer, Department of Anthropology, 305 King Building, 10 North Professor Street, Oberlin, OH 44074 telephone (440) 775-5173, email amy.margaris@oberlin.edu.

SUPPLEMENTARY INFORMATION: Notice is here given in accordance with the Native American Graves Protection and Repatriation Act (NAGPRA), 25 U.S.C. 3003, of the completion of an inventory of human remains under the control of Oberlin College, Oberlin, OH. The human remains were removed from Onondaga County, NY.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Oberlin College professional staff in consultation with representatives of the Onondaga Nation.

History and Description of the Remains

At an unknown date, human remains representing, at minimum, one individual were removed from an unknown site in Baldwinsville, Onondaga County, NY. In 1886, the Oberlin College Museum received human remains described as “Skull of Onondaga Indian” acquired from an “Ancient Burial Place, Baldwinsville, NY.” S.M. Dunbar is listed as the donor. The human remains were retained by Oberlin College after the museum's closure in the 1950s and are now in the care of the Oberlin College Department of Anthropology. The human remains consist of one probable female, approximately 18-35 years old. “Onondaga” is written in black ink on the human remains. No known individuals were identified. No associated funerary objects are present.

Osteological examination identifies these human remains as representing an individual of Native American ancestry. Their geographic affiliation with the territory of the Onondaga Nation is documented through collection evidence, oral history, and scholarly sources. During consultation, the Onondaga Nation's NAGPRA contact, Tony Gonyea, identified Baldwinsville as located in the heart of the traditional area of the Onondaga Nation. Archeological data demonstrate the Onondaga Nation's continued occupation of the Baldwinsville area since at least the Late Woodland period.

Determinations Made by Oberlin College

Officials of Oberlin College have determined that:

• Pursuant to 25 U.S.C. 3001(9), the human remains described in this notice represent the physical remains of one individual of Native American ancestry.

• Pursuant to 25 U.S.C. 3001(2), there is a relationship of shared group identity that can be reasonably traced between the Native American human remains and the Onondaga Nation.

Additional Requestors and Disposition

Lineal descendants or representatives of any Indian Tribe or Native Hawaiian organization not identified in this notice that wish to request transfer of control of these human remains should submit a written request with information in support of the request to Dr. Amy V. Margaris, Oberlin College NAGPRA Compliance Officer, Department of Anthropology, 305 King Building, 10 North Professor Street, Oberlin, OH 44074 telephone (440) 775-5173, email amy.margaris@oberlin.edu, by July 31, 2017. After that date, if no additional requestors have come forward, transfer of control of the human remains to the Onondaga Nation may proceed.

Oberlin College is responsible for notifying the Onondaga Nation that this notice has been published.

Dated: May 11, 2017.
Melanie O'Brien,
Manager, National NAGPRA Program.

[FR Doc. 2017-13743 Filed 6-29-17; 8:45 am]

BILLING CODE 4312-52-P